DEPARTMENT OF THE INTERIOR

Fish and Wildlife Service

DEPARTMENT OF COMMERCE

National Oceanic and Atmospheric Administration

[I.D.082906B]

Notice of Intent to Conduct Public Scoping Meeting and Prepare an Environmental Document for the Stanford University Habitat Conservation Plan, Palo Alto, CA

AGENCIES: Fish and Wildlife Service, (FWS), Interior; National Marine Fisheries Service, (NMFS), National Oceanic and Atmospheric Administration, (NOAA), Commerce.

ACTION: Notice of intent.

SUMMARY: The Fish and Wildlife Service and National Marine Fisheries Service (Services) advise interested parties of their intent to conduct public scoping meeting under the National Environmental Policy Act (NEPA) necessary to gather information to prepare an environmental assessment (EA) or environmental impact statement (EIS), (collectively referred to as “environmental document”). The Services anticipate permit applications from Stanford University (Stanford) submitted under the Endangered Species Act (ESA) for the incidental take of federally listed species. The permit applications would be associated with the Stanford University Habitat Conservation Plan (Plan) at Stanford in Palo Alto, CA. We provide this notice to: describe the proposed Plan and possible alternatives; advise other Federal and state agencies, affected Tribes, and the public of our intent to prepare an environmental document; announce the initiation of a public scoping period; obtain information to assist the Services in determining whether to write an EA or EIS; and obtain suggestions and information on the scope of issues to be included in the environmental document.

DATES: A public meeting will be held on September 21, 2006, from 4 to 6 pm. Written comments should be received on or before October 11, 2006.

ADDRESSES: The meeting will be held on the Stanford Campus at Jordan Hall, 450 Serra Mall, Building 420, Room 040, Stanford, CA. Written comments or questions relating to the preparation of an environmental document and the NEPA process should be addressed to: Ms. Lori Rinek, Chief, Conservation Planning and Recovery Division, Fish and Wildlife Service, Sacramento Fish and Wildlife Office, 2800 Cottage Way, Room W-2605, Sacramento, CA 95825, facsimile 916-414-6713; Gary Stern, San Francisco Bay Region Team Leader, National Marine Fisheries Service, Santa Rosa Area Office, 777 Sonoma Avenue, Room 325, Santa Rosa, CA 95404, facsimile 707-578-3435; or Stanford.HCP@NOAA.gov.

FOR FURTHER INFORMATION CONTACT: Sheila Larsen, Fish and Wildlife Service or Lori Rinek, Chief, Conservation Planning and Recovery Division, Fish and Wildlife Service, at the address shown above or at 916-414-6600, or Gary Stern, National Marine Fisheries Service, at the address shown or at 707-575-6060.

SUPPLEMENTARY INFORMATION:

Background

Section 9 of the ESA (16 U.S.C. 1532 et seq.) and implementing regulations prohibit the “taking” of fish and wildlife species listed as endangered or threatened . The term “take” is defined under the ESA to mean harass, harm, pursue, hunt, shoot, wound, kill, trap, capture, or collect, or to attempt to engage in any such conduct (16 U.S.C. 1532(19)). Harm is defined by the FWS to include significant habitat modification or degradation where it actually kills or injures wildlife by significantly impairing essential behavioral patterns, including breeding, feeding, and sheltering (50 CFR 17.3). NMFS' definition of harm includes significant habitat modification or degradation where it actually kills or injures fish or wildlife by significantly impairing essential behavioral patterns, including breeding, feeding, spawning, migrating, rearing, and sheltering (64 FR 60727, November 8, 1999).

Section 10 of the ESA specifies requirements for the issuance of incidental take permits (permits) to non-Federal landowners for the take of endangered and threatened species. Any proposed take must be incidental to otherwise lawful activities, not appreciably reduce the likelihood of the survival and recovery of the species in the wild and minimize and mitigate the impacts of such take to the maximum extent practicable. In addition, an applicant must prepare a habitat conservation plan describing the impact that will likely result from such taking, the strategy for minimizing and mitigating the incidental take, the funding available to implement such steps, alternatives to such taking, and the reason such alternatives are not being implemented. To obtain a permit, the applicant must prepare a habitat conservation plan that meets the issuance criteria established by the Services (50 CFR 17.22(b)(2) and 222.307). Should permits be issued, the permits would include assurances under the Services' “No Surprises” regulations [50 CFR 17.22(b)(5) and 17.32(b)(5)].

Currently, three federally listed species are proposed for coverage under the Plan, and one additional species that may be listed in the future is also proposed to be covered. The federally listed species are the threatened California red-legged frog (Rana aurora draytonii), California tiger salamander (Ambystoma californiense), and steelhead (Oncorhynchus mykiss). The one unlisted species proposed for coverage is the western pond turtle (Clemmys marmorata). Species may be added or deleted during the course of Plan development based on further analysis.

Proposed Plan

Stanford is a major research university that owns 8,180 acres of contiguous land in northern Santa Clara County and southern San Mateo County. These lands consist of both developed and undeveloped areas. Most of the urban facilities, including academic buildings, housing, roads, pedestrian/bicycle pathways, and recreational facilities are located in the central part of the campus. A generally undeveloped “Academic Reserve” outside this core academic area is used for low intensity academic uses. Stanford maintains three open water reservoirs: Lagunita, Felt Lake, and Searsville. Some of Stanford's lands are leased for interim non-academic purposes.

Activities proposed to be covered by the Plan (Covered Activities) are generally activities related to water management, academic uses, maintenance and construction of new urban infrastructure, recreational and athletic uses, campus management and maintenance, activities carried out by Stanford's tenants and future development.

The draft Plan to be prepared by Stanford in support of the permit applications will describe the impacts of take on proposed covered species, and will propose a conservation strategy to minimize and mitigate those impacts on each covered species to the maximum extent practicable. Components of a conservation program are now under consideration by the Services and Stanford. These components will likely include the following conservation strategy. Stanford has divided its 8,180 acres into four zones according to their relative habitat value for the Covered Species. Zone 1 (approximately 1,150 acres) supports, or provides critical resources for, one or more Covered Species. Zone 2 (approximately 1,260 acres) is occasionally occupied by, or occasionally provides some of the resources used by, one or more Covered Species. Zone 3 (approximately 2,500 acres) consists of generally undeveloped open space lands that have some biological value, but provide only limited and indirect benefit to the Covered Species. Zone 4 (approximately 3,270 acres) consists of urbanized areas that do not provide any habitat value for any Covered Species. The draft Plan will identify alternatives considered by Stanford and will explain why those alternatives were not selected.

To mitigate unavoidable impacts to proposed Covered Species from Covered Activities, the mitigation program will consist mainly of preserving large areas of the highest quality habitats and managing them for the benefit of the Covered Species. To ensure that mitigation precedes impacts, Stanford will designate several large preserve areas during the planning process and apply preservation “credits” against land development and related impacts over the course of the Plan. Stanford will also restore habitat values in certain areas in which habitat quality has been degraded over time through a variety of land uses.

National Environmental Policy Act

NEPA (42 U.S.C. 4321 et seq.) requires that Federal agencies conduct an environmental analysis of their proposed actions to determine if the actions may significantly affect the human environment. To assist in determining whether this project would cause significant impacts that would result in the preparation of an EIS refer to 40 CFR 1508.27 or 40 CFR 1508.2. These sections provide information on how to determine whether effects are significant under NEPA and would therefore trigger the preparation of an EIS. Under NEPA, a reasonable range of alternatives to proposed projects is developed and considered in the Services environmental review. Alternatives considered for analysis in an environmental document may include: variations in the scope of covered activities; variations in the location, amount, and type of conservation; variations in permit duration; or, a combination of these elements. In addition, the environmental document will identify potentially significant direct, indirect, and cumulative impacts on biological resources, land use, air quality, water quality, water resources, and socioeconomics, as well as other environmental issues that could occur with the implementation of the proposed actions and alternatives. For all potentially significant impacts, the environmental document will identify avoidance, minimization, and mitigation measures to reduce these impacts, where feasible, to a level below significance.

The primary purpose of the scoping process is for the public to assist the Services in developing the EA or EIS by identifying important issues and alternatives related to the proposed action. The Services propose to serve as co-lead Federal agencies under NEPA for preparation of the environmental documents. Written comments from interested parties are welcome to ensure that the full range of issues related to the permit requests is identified. All comments and materials received, including names and addresses, will become part of the administrative record and may be released to the public.

Comments and materials received will be available for public inspection, by appointment, during normal business hours at the offices listed in the ADDRESSES section.

The Services request that comments be specific. In particular, we request information regarding: the direct, indirect, and cumulative impacts that implementation of the proposed Plan could have on endangered and threatened and other covered species, and their communities and habitats; other possible alternatives that meet the purpose and need; potential adaptive management and/or monitoring provisions; funding issues; existing environmental conditions in the plan area; other plans or projects that might be relevant to this proposed project; and minimization and mitigation efforts.

The environmental review of this project will be conducted in accordance with the requirements of the NEPA of 1969 as amended (42 U.S.C. 4321 et seq.), Council on the Environmental Quality Regulations (40 CFR parts 1500-1508), other applicable Federal laws and regulations, and policies and procedures of the Services for compliance with those regulations. This notice is being furnished in accordance with 40 CFR 1501.7 of NEPA to obtain suggestions and information from other agencies and the public on the scope of issues and alternatives to be addressed in the environmental document.

Reasonable Accommodation

Persons needing reasonable accommodations in order to attend and participate in the public meeting should contact Gary Stern at 707-575-6060 as soon as possible. In order to allow sufficient time to process requests, please call no later than one week before the public meeting. Information regarding this proposed action is available in alternative formats upon request.

Dated: August 31, 2006.
Paul Henson,
Acting Deputy Manager, Fish and Wildlife Service, California/Nevada Operations Office.

Dated: August 31, 2006.
Angela Somma,
Chief, Endangered Species Division, National Marine Fisheries Service, Office of Protected Resources.

[FR Doc. 06-7572 Filed 9-8-06; 8:45 am]

BILLING CODES 4310-55-S, 3510-22-S